DEPARTMENT OF COMMERCE

International Trade Administration

(A-570-892)

Carbazole Violet Pigment 23 from the People's Republic of China: Notice of Extension of Time Limit for the Preliminary Results of the Antidumping Duty Administrative Review

AGENCY: Import Administration, International Trade Administration, Department of Commerce.

EFFECTIVE DATE: August 24, 2007.

FOR FURTHER INFORMATION CONTACT: Marin Weaver or Charles Riggle, AD/CVD Operations, Office 8, Import Administration, International Trade Administration, U.S. Department of Commerce, 14th Street and Constitution Avenue, NW, Washington, DC 20230; telephone: (202) 482-2336 or (202) 482-0650, respectively.

SUPPLEMENTARY INFORMATION:

Background

On February 2, 2007, the Department of Commerce (“the Department”) initiated an administrative review of the antidumping duty order on carbazole violet pigment 23 (“CVP-23”) from the People's Republic of China (“PRC”). See Initiation of Antidumping and Countervailing Duty Administrative Reviews and Request for Revocation in Part, 72 FR 5005 (February 2, 2007). This period of review (“POR”) covers the period December 1, 2005, through November 30, 2006. The preliminary results of review are currently due no later than September 2, 2007.

Extension of Time Limit for Preliminary Results of Review

Pursuant to section 751(a)(3)(A) of the Tariff Act of 1930, as amended (“the Act”), the Department shall make a preliminary determination in an administrative review of an antidumping duty order within 245 days after the last day of the anniversary month of the date of publication of the order. The Act further provides, however, that the Department may extend that 245-day period to up to 365 days if it determines it is not practicable to complete the review within the foregoing time period.

The Department finds that it is not practicable to complete the preliminary results of the administrative review of CVP-23 from the PRC within this time limit because we need additional time in order to determine the appropriate surrogate values with which to value factors of production. Therefore, in accordance with section 751(a)(3)(A) of the Act, the Department is extending the time period for completion of the preliminary results of this review by 100 days until December 11, 2007. The final results continue to be due 120 days after the publication of the preliminary results.

This notice is published in accordance with sections 751(a)(3)(A) and 777(i) of the Act.

Dated: August 17, 2007.
Gary Taverman,
Acting Deputy Assistant Secretary for Import Administration.

[FR Doc. E7-16811 Filed 8-23-07; 8:45 am]

BILLING CODE 3510-DS-S